OFFICE OF PERSONNEL MANAGEMENT

Notice of Submission for Approval: Information Collection 3206-0165; General Request for Investigative Information (INV 40), Investigative Request for Employment Data and Supervisor Information (INV 41), Investigative Request for Personal Information (INV 42), Investigative Request for Educational Registrar and Dean of Students Record Data (INV 43), and Investigative Request for Law Enforcement Data (INV 44)

AGENCY: U.S. Office of Personnel Management.

ACTION: 30-Day Notice and request for comments.

SUMMARY: The Federal Investigative Services (FIS), U.S. Office of Personnel Management (OPM) is notifying the general public and other Federal agencies that OPM is seeking Office of Management and Budget (OMB) approval of a revised information collection, control number 3206-0165, General Request for Investigative Information (INV 40), Investigative Request for Employment Data and Supervisor Information (INV 41), Investigative Request for Personal Information (INV 42), Investigative Request for Educational Registrar and Dean of Students Record Data (INV 43), and Investigative Request for Law Enforcement Data (INV 44). As required by 44 U.S.C. chapter 35, OPM previously solicited comments for this collection, with a 60-day public comment period, at 79 FR 4762 (January 29, 2014). No comments were received for this information collection. OPM is providing an additional 30 days for public comments.

DATES: Comments are encouraged and will be accepted until April 30, 2014. This process is conducted in accordance with 5 CFR 1320.10.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: This notice announces that OPM has submitted to OMB a request for review and clearance of a revised information collection, control number 3206-0165, General Request for Investigative Information (INV 40), Investigative Request for Employment Data and Supervisor Information (INV 41), Investigative Request for Personal Information (INV 42), Investigative Request for Educational Registrar and Dean of Students Record Data (INV 43), and Investigative Request for Law Enforcement Data (INV 44). The public has an additional 30-day opportunity to comment.

Section 3(a) of Executive Order (E.O.) 10450, as amended, states that with specified exceptions, “the appointment of each civilian officer or employee in any department or agency of the Government shall be made subject to investigation,” and that “in no event shall the investigation consist of less than a national agency check . . . and written inquiries to appropriate local law enforcement agencies, former employers and supervisors, references, and schools attended by the persons under investigation.” This minimum investigation for appointment in the civil service is called the National Agency Check with Inquiries (NACI). The INV 40, 41, 42, 43, and 44 are used to conduct the “written inquiries” portion of the NACI. They are also used in any investigation requiring the same written inquiries, including suitability investigations under E.O. 10577, as amended and 5 CFR part 731, for employment in positions defined in 5 CFR 731.101(b); investigations for employment in a sensitive national security position under E.O. 10450, as amended and 5 CFR part 732; certain investigations for eligibility for access to classified information pursuant to standards promulgated under E.O. 12968, as amended; certain investigations for fitness for employment in the excepted service or as a contract employee, pursuant to investigative requirements prescribed by employing and contracting agencies; and investigations for identity credentials for long-term physical and logical access to Federally-controlled facilities and information systems, pursuant to standards promulgated under the Federal Information Security Management Act. The INV forms 40 and 44, in particular, facilitate OPM's access to criminal history record information under 5 U.S.C. 9101.

The content of the INV forms is also designed to meet notice requirements for personnel investigations specified by 5 CFR 736.102(c). These notice requirements apply to any “investigation . . . to determine the suitability, eligibility, or qualifications of individuals for Federal employment, for work on Federal contracts, or for access to classified information or restricted areas.”

None of the forms are used for any purpose other than a personnel background investigation, as described above. The completed forms are maintained by OPM subject to the protections of the Privacy Act of 1974, as amended.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. After OPM receives a completed SF 85, SF 85P, or SF 86, the INV forms are distributed in accordance with investigative requirements, to the provided source contacts through an automated mailing operation.

The INV 40 is used to collect records from a Federal or State record repository or a credit bureau. The INV 44 is used to collect law enforcement data from a criminal justice agency. The INV 41, 42, and 43 are sent to employment references, associates, and schools attended. The INV 41, 42, and 43 forms disclose that the source's name was provided by the subject to assist in completing a background investigation to help determine the subject's suitability for employment or security clearance, and request that the source complete the form with information to help in this determination. Generally the subject of the investigation will identify these employment references, associates, and schools on his or her SF 85, SF 85P, or SF 86 questionnaire. However, information omitted on the questionnaire may be provided in a follow-up contact between the subject and an investigator. As indicated by the instructional guidance contained on the INV 41, 42, and 43, the forms are not to be sent to employment references, associates, and schools that have not been identified by the subject of the investigation.

OMB previously approved the OPM proposal to modify INV forms 40, 41, and 42 to provide instruction to the respondent to indicate requests of confidentiality of his or her identity, and to call an office at OPM to receive approval of the request before completing the form. OPM proposes to offer the request for confidentiality only on the INV 41 and INV 42 and alter the instructions to state `In compliance with title 5 Code of Federal Regulations, part 736.102(c), if you have significant information which you feel unable to furnish without a promise that your identity will be kept confidential, please indicate this in writing on the reverse and only provide your contact information.

Providing additional information on this form will void your request for confidentiality.' The purpose of this change is to more clearly establish the granting of confidentiality as permitted by the Privacy Act of 1974 and OPM's implementing regulations. Changes were not made to the forms at the time of the approval but will be a part of changes implemented with this renewal.

The 60-day notice of the proposed information collection was published in the Federal Register on January 29, 2014 (79 FR 4762) as required by 5 CFR 1320.8, affording the public an opportunity to comment on the form. No comments were received.

Analysis

Agency: Federal Investigative Services, U.S. Office of Personnel Management

Title: General Request for Investigative Information (INV 40), Investigative Request for Employment Data and Supervisor Information (INV 41), Investigative Request for Personal Information (INV 42), Investigative Request for Educational Registrar and Dean of Students Record Data (INV 43), and

Investigative Request for Law Enforcement Data (INV 44)

OMB Number: 3206-0165

Affected Public:

INV 40: Federal and non-federal agencies

INV 41: Previous and present employers and supervisors

INV 42: Individuals

INV 43: Educational institutions

INV 44: Law enforcement agencies

Number of Respondents: 5,639,700

INV 40: 339,888

INV 41: 1,910,463

INV 42: 1,636,379

INV 43: 411,444

INV 44: 1,341,526

Estimated Time Per Respondent: 5 minutes

Total Burden Hours: 469,975

INV 40: 28,324

INV 41: 159,205

INV 42: 136,365

INV 43: 34,287

INV 44: 111,794

U.S. Office of Personnel Management.
Katherine Archuleta,
Director.

[FR Doc. 2014-06595 Filed 3-28-14; 8:45 am]

BILLING CODE 6325-53-P